DEPARTMENT OF COMMERCE

National Oceanic and Atmospheric Administration

Caribbean Fishery Management Council (CFMC); Public Hearings

AGENCY: National Marine Fisheries Service (NMFS), National Oceanic and Atmospheric Administration (NOAA), Commerce.

ACTION: Notice of public hearings on amendments to the U.S. Caribbean Reef fish, spiny lobster and corals and reef associated plants and invertebrates fishery management plans: timing of accountability measure-based closures.

SUMMARY: The CFMC is considering modifying the timing for the implementation of accountability measure based closures in the EEZ and specifying how often to revisit the modification. The Council is considering these management measures in order to ensure AM-based closures successfully achieve their conservation objective at the least cost to fishers and the fishing communities, consistent with National Standard 8 the Magnuson-Stevens Fishery Conservation and Management Act.

Following are the actions and management alternatives:

The Amendment consists of two actions:

Action 1: Modify the timimg for the implementation of AM-based closures in the EEZ.

Alternative 1: No action. Continue AM-based closures resulting from an ACL overage beginning on December 31st of the closure year and extending backward in the year for the number of days neccesary to achieve the required reduction in landings.

Alternative 2: Accountability measure-based closures resulting from an ACL overage will begin on September 30th of the closure year and would extend backward into the year for the number of days necessary to achieve the required reduction in landing. This closure start date would apply to all FMUs for each of Puerto Rico commercial and recreational sectors, St. Thomas/St. John, St. Croix, and Caribbean-wide. If for any FMU in any year, the number of days left in the year is not enough to achieve the required reduction in landings, then those additional days would be captured in the opposite direction.

Alternative 3: Accountability measure-based closures resulting from am ACL overage will begin on January 1st of the closure year and would extend forward into the year for the number of days necessary to achieve the required reduction in landing. This closure start date would apply to all FMUs for each of Puerto Rico commercial and recreational sectors, St. Thomas/St. John, St. Croix, and Caribbean-wide.

Alternative 4: Establish a fixed fishing closure start date for the implememtation of AMs for each FMU (i.e., species/species complex) by island/island group (Puerto Rico, St. Thomas/St. John, St. Croix, and Caribbean-wide). A different start date may be chosen for each FMU on each island/island group, but that start date would apply every year AMs need to be triggered for that FMU on that island. The start date will begin on the last day of the identified month and go backward towards the beginning of the year.

Alternative 4 Sub-alternatives:

Alternative 4(a): Closure to start the last day of the month with highest average landings.

Alternative 4(b): Closure to start the last day of the month with lowest average landing.

Alternative 4—Puerto Rico (Commercial):

Sub-alternative 4(a): Closure to start the last day of the month that has the highest landings based on the most recent three years of available landings data.

Sub-alternative 4(b): Closure to start the last day of the month with lowest landings based on the most recent three years of available landings data.

Alternative 4—Puerto Rico (Recreational):

Sub-alternative 4(a): Closure to start the last day of the month that has the highest landings based on the most recent three years of available landings data.

Sub-alternative 4(b): Closure to start the last day of the month with lowest landings based on the most recent three years of available landings data.

Alternative 4—St. Thomas/St. John, USVI (Commercial and Recreational combined):

Sub-alternative 4(a): Closure to start the last day of the month that has the highest landings based on the most recent three years of available landings data.

Sub-alternative 4(b): Closure to start the last day of the month with lowest landings based on the most recent three years of available landings data.

Alternative-—Caribbean-Wide (Commercial and Recreational combined)

Sub-alternative 4(a): Closure to start the last day of the month that has the highest landings based on the most recent three years of available landings data (shortest closure time).

Sub-alternative 4(b): Closure to start the last day of the month with lowest landings based on the most recent three years of available landings data.

Action 2: Specify how often to revisit the approach selected in Action 1.

Alternative 1: No action. Do not specify how often the approach chosen should be revisited.

Alternative 2 (Preferred): Review the approach selected no longer than 2 years from implementation and every 2 years thereafter.

Alternative 3: Review the approach selected no longer than 5 years from implementation and every five years thereafter.

Dates and Addresses: The meetings will be held on the following dates and locations:

In the U.S. Virgin Islands:

November 16, 2015, 7 p.m.-10 p.m.—The Buccaneer Hotel, Estate Shoys, Christiansted, St. Croix, USVI.

November 17, 2015, 7 p.m.-10 p.m.—Windward Passage Hotel, Charlotte Amalie, St. Thomas, USVI.

In Puerto Rico:

November 23, 2015, 7 p.m.-10 p.m.—Doubletree Hotel, De Diego Avenue, Santurce, PR.

November 24, 2015, 7 p.m.-10 p.m.—Mayaguez Holiday Inn, 2701 Hostos Avenue, Mayagüez, Puerto Rico.

November 25, 2015, 2 p.m.-5 p.m.—Holiday Inn Ponce & Tropical Casino, 3315 Ponce By Pass, Ponce, Puerto Rico.

FOR FURTHER INFORMATION CONTACT: Caribbean Fishery Management Council, 270 Muñoz Rivera Avenue, Suite 401, San Juan, Puerto Rico 00918-1903, telephone (787) 766-5926.

SUPPLEMENTARY INFORMATION: Copy of the document, “Amendments to the U.S. Caribbean Reef fish, Spiny Lobster and Corals and Reef Associated Plants and Invertebrates Fishery Management Plans: Timing of Accountability Measure-Based Closures”, can be found at the CFMC Web page: caribbeanfmc.com.

Written comments can be sent to the Council not later than December 10, 2015, by regular mail to the address below, or via email to graciela_cfmc@yahoo.com.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: October 21, 2015.
Tracey L. Thompson,
Acting Deputy Director, Office of Sustainable Fisheries, National Marine Fisheries Service.

[FR Doc. 2015-27133 Filed 10-23-15; 8:45 am]

BILLING CODE 3510-22-P